DEPARTMENT OF THE TREASURY

Agency Information Collection Activities; Submission for OMB Review; Comment Request; Intake/Interview & Quality Review Sheet

AGENCY: Departmental Offices, Department of the Treasury.

ACTION: Notice.

SUMMARY: The Internal Revenue Service, as part of its continuing effort to reduce paperwork and respondent burden, invites the general public and other Federal agencies to take this opportunity to comment on proposed and/or continuing information collections, as required by the Paperwork Reduction Act of 1995. The IRS is soliciting comments concerning Form 13614-C series and Form 13614-NR, Intake/Interview & Quality Review Sheet.

DATES: Comments should be received on or before November 4, 2024 to be assured of consideration.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Copies of the submissions may be obtained from Melody Braswell by emailing PRA@treasury.gov, calling (202) 622-1035, or viewing the entire information collection request at www.reginfo.gov.

SUPPLEMENTARY INFORMATION:

Internal Revenue Service (IRS)

Title: Intake/Interview & Quality Review Sheet.

OMB Number Control No.: 1545-1964.

Form Numbers: 13614-C, 13614-C (AR), 13614-C (BN), 13614-C (BR), 13614-C (DE), 13614-C (FA), 13614-C (FR), 13614-C (GUJ), 13614-C (HT), 13614-C (IT) 13614-C (JA), 13614-C (KM), 13614-C (KO), 13614-C (LP), 13614-C (PA), 13614-C (PL), 13614-C (PT), 13614-C (RU), 13614-C (SO), 13614-C (SP), 13614-C (TL), 13614-C (UR), 13614-C (VIE), 13614-C (ZH-S) 13614-C (ZH-T), and 13614-NR.

Abstract: The Form 13614-C series and Form 13614-NR contains a standardized list of required intake questions to guide volunteers in the Tax Counseling for the Elderly (TCE) and Volunteer Income Tax Assistance (VITA) programs in asking taxpayers basic questions about themselves. The form provides the volunteer with structured and consistent information to accurately prepare the taxpayer's return.

Current Actions: Form 13614-C and Form 13614-NR was redesigned and updated to meet OMB request on Race/Ethnicity. Changes to the burden estimates are due to the most current filing data.

Type of Review: Extension of a currently approved collection.

Affected Public: Individuals or households.

Form: 13614-C:

Estimated Number of Responses: 2,561,781.

Estimated Time per Respondent: 10 minutes.

Estimated Total Annual Burden Hours: 426,964.

Form 13614-NR:

Estimated Number of Responses: 15,000.

Estimated Time per Respondent: 10 minutes.

Estimated Total Annual Burden Hours: 2,500.

Authority: 44 U.S.C. 3501 et seq.

Melody Braswell,
Treasury PRA Clearance Officer.

[FR Doc. 2024-22764 Filed 10-2-24; 8:45 am]

BILLING CODE 4810-25-P